DEPARTMENT OF THE INTERIOR

National Park Service

[NPS-WASO-NRNHL-DTS-27995; PPWOCRADI0, PCU00RP14.R50000]

National Register of Historic Places; Notification of Pending Nominations and Related Actions

AGENCY: National Park Service, Interior.

ACTION: Notice.

SUMMARY: The National Park Service is soliciting comments on the significance of properties nominated before May 18, 2019, for listing or related actions in the National Register of Historic Places.

DATES: Comments should be submitted by June 20, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 18, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

GEORGIA

Morgan County

Nolan, James A., House, 4690 A Bostwick Hwy., Madison, SG100004106

MISSOURI

Jackson County

Kansas City Star Building, 1729 Grand Blvd., Kansas City, SG100004102

NEVADA

Churchill County

Maine Street Historic District, Downtown along Maine & Center Sts. & Williams Ave., Fallon, SG100004098

NEW JERSEY

Monmouth County

Brookdale Farm Historic District, 805 Newman Springs Rd., Middletown Township, SG100004105

Nominations submitted by Federal Preservation Officers:

The State Historic Preservation Officer reviewed the following nominations and responded to the Federal Preservation Officer within 45 days of receipt of the nominations and supports listing the properties in the National Register of Historic Places.

MONTANA

Blaine County

Cow Island Landing Skirmish Site, Approx. 28 mi. NE of Winifred, Winifred vicinity, SG100004103

Cow Creek Skirmish Historic District, Approx. 28 mi. NE of Winifred, Winifred vicinity, SG100004104

UTAH

Garfield County

Chaffin Camp Site (Ranching Resources of the Robbers Roost/Under the Ledge areas within Canyonlands NP and Glen Canyon NRA MPS), Address Restricted, Hite vicinity, MP100004110

Wayne County

Cowboy Rock Shelter Site (Ranching Resources of the Robbers Roost/Under the Ledge areas within Canyonlands NP and Glen Canyon NRA MPS), Address Restricted, Hanksville vicinity, MP100004109

WASHINGTON

Grant County

Columbia Basin Project Irrigation Division Headquarters Office, 32 C St. NW, Ephrata, SG100004099

Authority: Section 60.13 of 36 CFR part 60.

Dated: May 20, 2019.
Christopher Hetzel,
Acting Chief, National Register of Historic Places/National Historic Landmarks Program.

[FR Doc. 2019-11670 Filed 6-4-19; 8:45 am]

BILLING CODE 4312-52-P